FEDERAL COMMUNICATIONS COMMISSION

Sunshine Act Meeting

January 24, 2013.

FCC To Hold Open Commission Meeting; Thursday, January 31, 2013

The Federal Communications Commission will hold an Open Meeting on the subjects listed below on Thursday, January 31, 2013. The meeting is scheduled to commence at 10:30 a.m. in Room TW-C305, at 445 12th Street SW., Washington, DC.

1 Office of Engineering & Technology: Title: Promoting Expanded Opportunities for Radio Experimentation and Market Trials under Part 5 of the Commission's Rules and Streamlining Other Related Rules (ET Docket No. 10-236); 2006 Biennial Review of Telecommunications Regulations—Part 2 Administered by the Office of Engineering and Technology (ET Docket No. 06-155)

Summary: The Commission will consider a Report and Order to revise and streamline its rules to modernize the Experimental Radio Service by creating a more flexible environment to accelerate innovation and promote the introduction of new products, including medical devices, to the marketplace.

2 Office of Engineering & Technology: Title: Expanding Broadband Access and Spectrum Availability for Healthcare

Summary: The Commission will hear a presentation on the agency's ongoing work to expand broadband access and spectrum availability for health care uses.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary.

[FR Doc. 2013-02222 Filed 1-30-13; 11:15 am]

BILLING CODE 6712-01-P